DEPARTMENT OF THE INTERIOR

Fish and Wildlife Service

Draft Environmental Impact Statement on the Proposed Reaffirmation of Incidental Take Permits (ITPs) That Were Previously Issued To Allow Incidental Take of the Endangered Alabama Beach Mouse and Announcement of a Public Meeting

AGENCY: Fish and Wildlife Service, Interior.

ACTION: Notice of availability; announcement of a public meeting.

SUMMARY: The Fish and Wildlife Service (Service) announces the availability of a Draft Environmental Impact Statement (DEIS), which analyzes the environmental impacts associated with incidental take permits that were previously issued under the Endangered Species Act of 1973 (Act), as amended (16 U.S.C. 1531 et seq.), for take of the Alabama beach mouse (Peromyscus polionotus ammobates). The DEIS also analyzes a full range of reasonable alternatives, including a No-Action alternative. The incidental take permits, previously issued to Gulf Highlands LLC and Beach Club West, involve the construction, occupancy, use, operation, and maintenance of two residential/recreational condominium development projects on the Fort Morgan Peninsula in Baldwin County, Alabama. We will hold a public meeting to inform the public and interested stakeholders about the DEIS and solicit their input on the document.

DATES: Written comments concerning the DEIS should be sent to the Service's Regional Office (see ADDRESSES) and should be received on or before July 27, 2006 We will hold a public meeting on June 26, 2006, at 6:30 p.m.

ADDRESSES: Persons wishing to review the DEIS may obtain a copy by writing either to the Service's Southeast Regional Office at Regional Office, 1875 Century Boulevard, Suite 200, Atlanta, GA 30345 (Attn: Endangered Species Permits), or to the Alabama Field Office at U.S. Fish and Wildlife Service, 1208-B Main Street, Daphne, Alabama 36526 (Attn: Acting Supervisor). Documents will be available for public inspection by appointment during normal business hours at the Southeast Regional Office. Written data or comments concerning the DEIS should be submitted to the Regional Office. Please reference permit numbers TE-007985-0 (Gulf Highlands) and TE-031307-0 (Fort Morgan Peninsula Joint Venture) in your comments, or in requests for documents.

Our June 26, 2006, public meeting will take place at 6:30 p.m., at the Adult Activity Center located at 260 Clubhouse Drive, Gulf Shores, Alabama. A court reporter will be present to record all comments, and all interested parties will be allowed to comment.

FOR FURTHER INFORMATION CONTACT: Mr. Aaron Valenta, Regional HCP Coordinator, (see ADDRESSES above), telephone: 404/679-4144; or Acting Supervisor, Alabama Field Office (see ADDRESSES above), telephone: 251/441-5870.

SUPPLEMENTARY INFORMATION: The Service specifically requests information, views, and opinions from the public via this notice on the DEIS and the actions proposed by the permittees. Comments are requested on the two preferred alternatives and reasons for selecting one over the other. Submitted comments must be in writing to be considered in the Service's decisionmaking process.

If you wish to comment, you may submit comments by any one of several methods. Please reference permit application numbers TE-007985-0 (Gulf Highlands) and TE-031307-0 (Fort Morgan Peninsula Joint Venture) in such comments. You may mail comments to the Services' Southeast Regional Office (see ADDRESSES). You may also comment via the Internet to aaron_valenta@fws.gov. Please also include your name and return address in your e-mail message. If you do not receive a confirmation that we have received your e-mail message, contact us directly at either telephone number listed above (see FOR FURTHER INFORMATION CONTACT). Finally, you may hand-deliver comments to either service office listed above (see ADDRESSES). Our practice is to make comments, including names and home addresses of respondents, available for public review during regular business hours at both the regional and field offices. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

In April 2002, the Service issued incidental take permits to the permittees (referred to as permittees since the permits were previously issued but are currently held in abeyance) following preparation of an Environmental Assessment, announced on April 9, 2002 (67 FR 17089), and a finding of no significant impact. The Sierra Club and Friends of the Earth, Inc., filed an action in the United States District Court for the Southern District of Alabama challenging the Environmental Assessment and finding of no significant impact. See Sierra Club and Friends of the Earth v. Norton, 207 F. Supp 2d. 1310 (S.D. Ala. 2002). The Judge granted a preliminary injunction against take of the Alabama beach mouse pursuant to the incidental take permits that were issued to the permittees. Subsequently, the Service requested and the Court granted a voluntary remand for the preparation of an environmental impact statement. On October 8, 2002, the Service published a Federal Register notice (67 FR 62809) announcing its intent to prepare an environmental impact statement and hold a scoping meeting. The scoping meeting was held at Gulf State Park on October 29, 2002.

General activities proposed for permit coverage include construction and maintenance activities associated with residential and commercial development. The proposed residential/recreational condominium developments would be located on approximately 186.7 acres in south Baldwin County, Alabama, between State Highway 180 and the Gulf of Mexico (Section 28, Township 9 South, Range 2 East) about 12 miles west of Highway 59 in Gulf Shores, Alabama, on the Fort Morgan Peninsula. As proposed by the Permittees, 143.5 acres for alternative 4 or 146.2 acres for alternative 5 of the property would be conserved as a condition of the incidental take permits. This includes approximately 30 acres of Alabama beach mouse critical habitat on the property which would likewise not be developed except for installation of dune walkovers extending from the south edge of the developed footprint of the residential building to the north edge of the wet beach.

The Permittee's future activities have the potential to impact Alabama beach mice subject to protection under the Act. The Alabama beach mouse was listed as an endangered species in 1985 (50 FR 23872) due to decreased populations and a loss of habitat. The Alabama beach mouse is one of eight subspecies of the old-field mouse that occupy coastal rather than inland habitat and are referred to as beach mice. The Alabama beach mouse is pale gray with a distinct stripe running down the back and tail.

In 2005, the Service determined that the current range of the Alabama beach mouse extends approximately 22 km (14 miles) on the Fort Morgan Peninsula. The Service identified a total of 2,544 acres of Alabama beach mouse habitat, including 110 acres at Gulf State Park. Track monitoring after hurricanes in 2004 and 2005 indicate that the Alabama beach mouse may continue to use areas that were temporarily inundated. The Alabama beach mouse may have been extirpated from Gulf State Park by Hurricane Ivan in 2004.

Section 10(a)(1)(B) of the Act allows for permitting non-Federal landowners to take endangered and threatened species, provided the take is incidental to otherwise lawful activities and will not appreciably reduce the likelihood for the survival and recovery of the species in the wild, among other permit issuance criteria. An applicant for a permit under section 10 of the Act must prepare and submit to the Service for approval a habitat conservation plan (HCP) containing, among other things, a strategy for minimizing and mitigating all take associated with the proposed activities to the maximum extent practicable. The applicant must also ensure that adequate funding for implementation of the plan will be provided.

The DEIS analyzes the Permittees' proposed HCP, as well as a full range of reasonable alternatives and the associated impacts of each. The Service has developed five alternatives for analysis, including two preferred alternatives (alternatives 4 and 5).

Alternative 1—No Action. The No-Action alternative considers the likely outcome if the Service does not reaffirm the issued incidental take permits. Under this alternative, the two projects would not be constructed as currently proposed.

Alternative 2—Development According to the Original Gulf Highlands Subdivision Plat. Portions of the Permittees' properties were originally platted and zoned for single family residential development by the Baldwin County Planning Commission. This alternative would involve development according to the original subdivision of the lands, which included approximately 1,076 single family lots. In order to construct the 1,076 residences, it is likely that the permittees would need to apply for and receive incidental take permits for those lots platted in Alabama beach mouse habitat.

Alternative 3—Development Entirely North of the Escarpment. This alternative would involve development of residential condominium buildings and infrastructure approximately 300 feet north of the escarpment for both projects. Alternative 3 also includes additional minimization measures such as elimination of surface parking and one access roadway.

Alternative 4—Development Including a 909-foot Corridor Connecting Adjacent Primary/Secondary Dunes and Escarpment to the Interior. This Alternative preserves a 909-foot undeveloped corridor on the west side of the proposed projects. This alternative provides for dedication of 100.8 acres of Permittee-owned lands into conservation status via covenants, conditions, and restrictions attached to the property, and conditions of any incidental take permit that might be issued.

Alternative 5—Development Including 909-foot Corridor Connecting Adjacent Primary/Secondary Dunes and Escarpment to the Interior and Use of Parking Decks. This Alternative preserves a 909-foot undeveloped corridor on the west side of the proposed projects. This alternative provides for dedication of more 100.8 acres of Permittee-owned lands into conservation status via covenants, conditions, and restrictions attached to the property, and conditions of any incidental take permit that might be issued. This alternative incorporates additional minimization by utilizing additional parking decking. However, the current zoning found on the site would not permit this alternative. While the permittees are seeking a zoning variance, this alternative may not be practicable.

Additional alternatives are briefly discussed. These alternatives either resulted in greater impacts to resources (e.g., the placement of structures closer to the beach, resulting in increased impacts to sea turtles) or are not considered to be economically practicable.

Persons wishing to provide relevant information and comments regarding the DEIS should submit these to the above address. For information, please contact the individual identified above in the FOR FURTHER INFORMATION CONTACT section.

The environmental review of this project is being conducted in accordance with the requirements of the National Environmental Policy Act of 1969 as amended (42 U.S.C. 4321 et seq.) and its implementing regulations (40 CFR parts 1500 through 1508), and with other appropriate Federal laws and regulations, policies, and procedures of the Service for compliance with those regulations.

The purpose of the public meeting on June 26, 2006, at the Adult Activity Center, Gulf Shores, Alabama, is to seek public input on the DEIS, to identify concerns that may be considered in the preparation of the final EIS, and to ensure that the DEIS is thorough and balanced. We encourage comments from the public concerning the identification of public and agency concerns, the enumeration of environmental issues and alternatives examined in the DEIS, the elimination of non-significant issues from extensive review, and the identification of relevant issues.

Dated: April 18, 2006.
Cynthia K. Dohner,
Acting Regional Director.

[FR Doc. E6-6140 Filed 4-27-06; 8:45 am]

BILLING CODE 4310-55-P